FEDERAL COMMUNICATIONS COMMISSION

Radio Broadcasting Services; AM or FM Proposals to Change the Community of License

AGENCY: Federal Communications Commission.

ACTION: Notice.

SUMMARY: The following applicants filed AM or FM proposals to change the community of license: AD ASTRA PER ASPERA BROADCASTING, INC., Station KNZS, Facility ID 1137, BPH-20071221ADM, From KINGMAN, KS, To ARLINGTON, KS; AUBURN NETWORK, INC., Station WGZZ, Facility ID 15283, BPH-20071219ABU, From DADEVILLE, AL, To WAVERLY, AL; BENTON-WEATHERFORD BROADCASTING, INC., OF IN., Station WKZS, Facility ID 4807, BPH-20080108ABK, From COVINGTON, IN, To THOMASBORO, IL; CITADEL BROADCASTING COMPANY, Station WXOK, Facility ID 11606, BMP-20061116AEE, From BATON ROUGE, LA, To PORT ALLEN, LA; COPPER MOUNTAIN BROADCASTING COMPANY, Station KXCM, Facility ID 67029, BPH-20071130AMT, From TWENTYNINE PALMS, CA, To JOSHUA TREE, CA; COPPER MOUNTAIN BROADCASTING COMPANY, Station KQCM, Facility ID 16771, BPH-20071130AMV, From JOSHUA TREE, CA, To THERMAL, CA; EMMANUEL BAPTIST TEMPLE, Station WHGT, Facility ID 39494, BP-20071206ACV, From CHAMBERSBURG, PA, To MAUGANSVILLE, MD; LAKESHORE MEDIA, LLC, Station KWCX-FM, Facility ID 72659, BPH-20080102ABU, From WILLCOX, AZ, To TANQUE VERDE, AZ; PRINCIPLE BOSTON HOLDCO LLC, Station WESX, Facility ID 49301, BP-20070307AAX, From SALEM, MA, To NAHANT, MA; SKYWEST MEDIA LLC, Station KFMR, Facility ID 164261, BMPH-20080108AAB, From MARBLETON, WY, To BALLARD, UT; TIMOTHY C. CUTFORTH, Station KCEG, Facility ID 135885, BMP-20071227AAQ, From PUEBLO, CO, To FOUNTAIN, CO; WILLIAMS COMMUNICATIONS, INC., Station WHMA-FM, Facility ID 52320, BPH-20071214AAR, From HOBSON CITY, AL, To ALEXANDRIA, AL.

DATES: Comments may be filed through March 25, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E8-1332 Filed 1-24-08; 8:45 am]

BILLING CODE 6712-01-P